ENVIRONMENTAL PROTECTION AGENCY

40 CFR Parts 52 and 81

[EPA-R03-OAR-2025-1872; FRL-12994-03-R3]

Proposed Revisions of the Nonattainment Designation for the 2008 and 2015 Ozone Standards and Clean Data Determinations for the 2008 and 2015 Ozone Standards: Cecil County, MD and New Castle County, DE; Extension of Comment Period

AGENCY: Environmental Protection Agency (EPA).

ACTION: Proposed rule; extension of comment period.

SUMMARY: The Environmental Protection Agency (EPA) is extending the comment period for a proposed rule that published January 2, 2026. The current comment period for the proposed rule was scheduled to close on February 2, 2026. The EPA is extending the comment period for the proposed action to February 9, 2026.

DATES: The comment period for the proposed rule published on January 2, 2026 (91 FR 98) was originally scheduled to close on February 2, 2026, but the comment period is being extended by 7 days. Comments must be received on or before February 9, 2026.

ADDRESSES: Submit your comments, identified by Docket ID No. EPA-R03-OAR-2025-1872 at www.regulations.gov. Additional instructions to comment can be found in the notice of proposed rulemaking published January 2, 2026, at 91 FR 98.

FOR FURTHER INFORMATION CONTACT: Sarah McCabe, U.S. Environmental Protection Agency, Air & Radiation Division, U.S. Environmental Protection Agency, Region III, Four Penn Center, 1600 John F. Kennedy Boulevard, Philadelphia, Pennsylvania 19103. The telephone number is (215) 814-5786. Ms. McCabe can also be reached via electronic mail at mccabe.sarah@epa.gov.

SUPPLEMENTARY INFORMATION: On January 2, 2026, the EPA published the notice of proposed rulemaking (NPRM) “Proposed Revisions of the Nonattainment Designation for the 2008 and 2015 Ozone Standards and Clean Data Determinations for the 2008 and 2015 Ozone Standards: Cecil County, MD and New Castle County, DE” in the Federal Register (91 FR 98). The NPRM specified that the comment period would end on February 2, 2026. However, the EPA's Technical Support Document (TSD), identified in the docket as “MD DE 107 TSD Final”, was not made available in the docket until January 5, 2026 (three days after publication). To ensure the public and interested parties have sufficient time to review the associated docket materials and submit comment on the NPRM, the EPA is extending the comment period by a week to February 9, 2026.

List of Subjects

40 CFR Part 52

Environmental protection, Air pollution control, Incorporation by reference, Intergovernmental relations, Nitrogen dioxide, Ozone, Volatile organic compounds.

40 CFR Part 81

Environmental protection, Air pollution control, Designations, Intergovernmental relations, Redesignation, Reporting and recordkeeping requirements Nitrogen dioxide, Ozone, Volatile organic compounds.

Amy Van Blarcom-Lackey,
Regional Administrator, Region III.

[FR Doc. 2026-01319 Filed 1-22-26; 8:45 am]

BILLING CODE 6560-50-P